UNITED STATES AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration.

DATES: The meeting date is Tuesday, January 31, 2017, 9:00 a.m. to 12:00 p.m.

ADDRESSES: The meeting location is 1400 I St. NW., Suite 1000, Washington, DC 20005.

FOR FURTHER INFORMATION CONTACT: June Brown, 202-233-8882.

Authority: Public Law 96-533 (22 U.S.C. 290h).

Dated: January 13, 2017.
June Brown,
Interim General Counsel.

[FR Doc. 2017-01312 Filed 1-19-17; 8:45 am]

BILLING CODE 6117-01-P